DEPARTMENT OF COMMERCE

Patent and Trademark Office

Recording Assignments

ACTION: Proposed collection; comment request.

SUMMARY: The United States Patent and Trademark Office (USPTO), as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before March 30, 2018.

ADDRESSES: Written comments may be submitted by any of the following methods:

• Email: InformationCollection@uspto.gov. Include “0651-0027 Recording Assignments” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to Joyce R. Johnson, Manager, Assignment Division, Mail Stop 1450, United States Patent and Trademark Office, P.O. Box 1450, Alexandria, VA 22313-1450; by telephone at 703-756-1265; or by email to Joyce.Johnson@uspto.gov with “Paperwork” in the subject line. Additional information about this collection is also available at http://www.reginfo.gov under “Information Collection Review.”

SUPPLEMENTARY INFORMATION:

I. Abstract

This collection of information is required by 35 U.S.C. 261 and 262 for patents and 15 U.S.C. 1057 and 1060 for trademarks. These statutes authorize the United States Patent and Trademark Office (USPTO) to record patent and trademark assignment documents, including transfers of properties (i.e., patents and trademarks), liens, licenses, assignments of interest, security interests, mergers, and explanations of transactions or other documents that record the transfer of ownership of a particular patent or trademark property from one party to another. Assignments are recorded for applications, patents, and trademark registrations.

The USPTO administers these statutes through 37 CFR 2.146, 2.171, and 37 CFR part 3. These rules permit the public, corporations, other federal agencies, and Government-owned or Government-controlled corporations to submit patent and trademark assignment documents and other documents related to title transfers to the USPTO to be recorded. In accordance with 37 CFR 3.54, the recording of an assignment document by the USPTO is an administrative action and not a determination of the validity of the document or of the effect that the document has on the title to an application, patent, or trademark.

Once the assignment documents are recorded, they are available for public inspection. The only exceptions are those documents that are sealed under secrecy orders according to 37 CFR 3.58 or related to unpublished patent applications maintained in confidence under 35 U.S.C. 122 and 37 CFR 1.14. The public uses these records to conduct ownership and chain-of-title searches. The public may view these records either at the USPTO Public Search Facility or at the National Archives and Records Administration, depending on the date they were recorded. The public may also search patent and trademark assignment information online through the USPTO website.

In order to record an assignment document, the respondent must submit an appropriate cover sheet along with copies of the assignment document to be recorded. The USPTO provides two paper forms for this purpose, the Patent Recordation Form Cover Sheet (PTO-1595) and the Trademark Recordation Form Cover Sheet (PTO-1594), which capture all of the necessary data for accurately recording various assignment documents. These forms may be downloaded in PDF format from the USPTO website (https://www.uspto.gov/forms/pto1595.pdf and https://www.uspto.gov/sites/default/files/pto1594.pdf, respectively).

Customers may also submit assignments online by using the Electronic Patent Assignment System (EPAS) and the Electronic Trademark Assignment System (ETAS), which are available through the USPTO website. These systems allow customers to fill out the required cover sheet information online using web-based forms and then attach the electronic assignment documents to be submitted for recordation.

II. Method of Collection

By mail, facsimile, hand delivery, or electronically to the USPTO.

III. Data

OMB Number: 0651-0027.

IC Instruments: PTO-1594 and 1595, Trademark and Patent Recordation Form Cover Sheets.

Type of Review: Extension of a Previously Existing Information Collection.

Affected Public: Individuals or households; businesses or other for-profits; not-for-profit institutions; the Federal Government; and state, local or tribal governments.

Estimated Number of Respondents: 596,527 responses per year.

Estimated Time per Response: The USPTO estimates that the response time for activities related to the recording assignment process will take approximately 30 minutes (0.5 hours) to complete. This includes the time to gather the necessary information, create the document, and submit the completed request to the USPTO.

Estimated Total Annual Hour Burden: 298,263.50 hours.

Estimated Total Annual Cost Burden (Hourly): $86,943,810.25 per year. The USPTO expects that the information in this collection will be prepared by both attorneys and paralegals. The professional hourly rate for attorneys is $438 and the professional hourly rate for paraprofessionals is $145. These rates are established by estimates in the 2017 Report on the Economic Survey, published by the Committee on Economics of Legal Practice of the American Intellectual Property Law Association and the 2017 National Utilization and Compensation Survey published by the National Association of Legal Assistants (NALA). The USPTO estimates that the combined rate for respondents will be approximately $291.50 per hour. Therefore, the estimated total respondent cost burden for this collection will be approximately $86,943,810.25 per year.

Table 1— Respondent Costs
IC No. | Information collection instrument | Estimated time for response (minutes) | Estimated annual responses | Estimated annual burden hours | Rate ($/hr) | Estimated total annual hourly cost burden
|  | (a) | (b) | (c) = (a) × (b) | (d) | (e) = (c) × (d)
1 | Patent Recordation Form Cover Sheet (PTO-1595) | 30 | 2,498 | 1,249 | $291.50 | $364,083.50
2 | Trademark Recordation Form Cover Sheet (PTO-1594) | 30 | 816 | 408 | 291.50 | 118,932.00
3 | Electronic Patent Assignment System (EPAS) (PTO-1595) | 30 | 546,884 | 273,442 | 291.50 | 79,708,343.00
4 | Electronic Trademark Assignment System (ETAS) (PTO-1594) | 30 | 46,329 | 23,164.50 | 291.50 | 6,752,451.75
Total |  |  | 596,527 | 262,150 |  | 86,943,810.25

Estimated Total Annual Cost Burden (Non-Hourly): $3,267,181.32. This information collection has annual (non-hour) costs in the form of filing fees and postage costs.

This collection has filing fees associated with submitting patent and trademark assignment documents to be recorded. The filing fees for recording patent and trademark assignments are the same for both paper and electronic submissions. However, the filing cost for recording patent or trademark assignments varies according to the number of properties involved in each submission.

Filing Fees

The filing fee for submitting a patent assignment as indicated by 37 CFR 1.21(h) is $40 per property for recording each document, while the filing fee for submitting a trademark assignment as indicated by 37 CFR 2.6(b)(6) is $40 for recording the first property in a document and $25 for each additional property in the same document. The USPTO estimates that the average fee for a patent assignment recordation request is approximately $80 and that the average fee for a trademark assignment recordation request is approximately $65. Therefore, this collection has an estimated total of $2,950,395 in filing fees per year.

Table 2—Filing Costs
IC No. | Information collection instrument | Estimated annual responses | Filing fee ($) | Estimated total non-hour cost burden
|  | (a) | (b) | (a) × (b) = (c)
1 | Patent Recordation Form Cover Sheet (PTO-1595) | 2,498 | $80.00 | $199,840.00
2 | Trademark Recordation Form Cover Sheet (PTO-1594) | 816 | 65.00 | 53,040.00
4 | Electronic Trademark Assignment System (ETAS) (PTO-1594) | 46,329 | 65.00 | 3,011,385.00
Total |  | 49,643 |  | 3,264,265.00

Postage Costs

Customers may incur postage costs when submitting a patent or trademark assignment request to the USPTO by mail. The Patent and Trademark Recordation Cover Sheets will be submitted by mail, for a total of 3,314 mailed submissions. The average postage cost for a mailed Patent or Trademark Recordation Form Cover Sheet submission is 88 cents, resulting in a total postage cost of $2,916.32 per year for this collection.

The total (non-hour) respondent cost burden for this collection in the form of filing fees and postage costs is estimated to be $3,267,181.32 per year.

IV. Request for Comments

Comments are invited on: (a) Whether the proposed collection of information is necessary for the proper performance of the functions of the agency, including whether the information shall have practical utility; (b) the accuracy of the agency's estimate of the burden (including hours and cost) of the proposed collection of information, including the validity of the methodology and assumptions used; (c) ways to enhance the quality, utility, and clarity of the information to be collected; and (d) ways to minimize the burden of the collection of information on respondents, including through the use of automated collection techniques or other forms of information technology, e.g., permitting electronic submission of responses.

Comments submitted in response to this notice will be summarized or included in the request for OMB approval of this information collection; they will also become a matter of public record.

Marcie Lovett,
Records Management Division Director, USPTO, Office of the Chief Information Officer.

[FR Doc. 2018-01608 Filed 1-26-18; 8:45 am]

BILLING CODE 3510-16-P